DEPARTMENT OF THE INTERIOR

National Park Service

[NPS-WASO-NAGPRA-NPS0032109; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural items listed in this notice meet the definition of both sacred objects and objects of cultural patrimony. Lineal descendants or representatives of any Indian Tribe or Native Hawaiian organization not identified in this notice that wish to claim these cultural items should submit a written request to the Gilcrease Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Gilcrease Museum at the address in this notice by July 26, 2021.

FOR FURTHER INFORMATION CONTACT: Laura Bryant, Gilcrease Museum, 1400 N Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate cultural items under the control of the Gilcrease Museum, Tulsa, OK, that meet the definition of both sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, five cultural items were removed from a Seneca-Cayuga community. Thomas Gilcrease most likely purchased these items from another collector sometime in the mid-20th century. In 1955, Gilcrease transferred his museum and most of his collection, including these five items, to the City of Tulsa. The five sacred objects and objects of cultural patrimony are three False Faces (accession numbers 84.1699, 84.1701, and 84.1802) and two turtle rattles (accession numbers 93.136 and 93.137).

In 1938, two cultural items were removed from the Seneca Stomp Grounds in Delaware County, OK. These items were made by Red Jacket, a Seneca man, who used them in traditional religious ceremonies. In 1938, Alfred Reed, Jr. purchased the items from Red Jacket. In 1939, Thomas Gilcrease purchased Alfred Reed, Jr.'s collection, including these two items. In 1955, Gilcrease transferred his museum and most of his collection, including these two items, to the City of Tulsa. The two sacred objects and objects of cultural patrimony are one False Face (accession number 84.1700) and one turtle rattle (accession number 93.138).

At an unknown date most likely in the mid-20th century, one cultural item was removed from a Seneca-Cayuga community. This item was acquired by Carol Rachlin and Alice Marriott most likely during their travels and work as anthropologists. In 2014, the Gilcrease Museum received Carol Rachlin's collection, which included this item. The sacred object and object of cultural patrimony is a False Face.

False Faces and the turtle rattles associated with them have been, and still are, used by the Seneca Cayuga people in traditional religious ceremonies and are, therefore, culturally affiliated with the Seneca-Cayuga Nation. These cultural items are needed by present-day adherents of the False Face Medicine Society and cannot be individually owned, as they belong to the Society as a whole.

Determinations Made by the Gilcrease Museum

Officials of the Gilcrease Museum have determined that:

• Pursuant to 25 U.S.C. 3001(3)(C), the eight cultural items described above are specific ceremonial objects needed by traditional Native American religious leaders for the practice of traditional Native American religions by their present-day adherents.

• Pursuant to 25 U.S.C. 3001(3)(D), the eight cultural items described above have ongoing historical, traditional, or cultural importance central to the Native American group or culture itself, rather than property owned by an individual.

• Pursuant to 25 U.S.C. 3001(2), there is a relationship of shared group identity that can be reasonably traced between the sacred objects and objects of cultural patrimony and the Seneca-Cayuga Nation [previously listed as Seneca-Cayuga Tribe of Oklahoma].

Additional Requestors and Disposition

Lineal descendants or representatives of any Indian Tribe or Native Hawaiian organization not identified in this notice that wish to claim these cultural items should submit a written request with information in support of the claim to Laura Bryant, Gilcrease Museum, 1400 N. Gilcrease Museum Road, Tulsa, OK 74127, telephone (918) 596-2747, email laura-bryant@utulsa.edu, by July 26, 2021. After that date, if no additional claimants have come forward, transfer of control of the sacred objects and objects of cultural patrimony to the Seneca-Cayuga Nation [previously listed as Seneca-Cayuga Tribe of Oklahoma] may proceed.

The Gilcrease Museum is responsible for notifying the Seneca-Cayuga Nation [previously listed as Seneca-Cayuga Tribe of Oklahoma] that this notice has been published.

Dated: June 9, 2021.
Melanie O'Brien,
Manager, National NAGPRA Program.

[FR Doc. 2021-13513 Filed 6-24-21; 8:45 am]

BILLING CODE 4312-52-P